DEPARTMENT OF AGRICULTURE

Office of the Secretary

Privacy Act of 1974; Report of a New System of Records

AGENCY: Office of the Secretary, USDA.

ACTION: Notice of New Privacy Act System of Records.

SUMMARY: Notice is hereby given that the United States Department of Agriculture (USDA) proposes to create a new Privacy Act system of records, FCIC-10, entitled “Policyholder.” The system will be maintained by the Federal Crop Insurance Corporation (FCIC), a wholly-owned Government Corporation administered by the Risk Management Agency (RMA), an agency of USDA. The primary purpose the policyholder system is to aid in the administration and management of the Federal crop insurance program.

EFFECTIVE DATE: This notice will be adopted without further publication on December 9, 2002 unless modified by a subsequent notice to incorporate comments received from the public. Although the Privacy Act requires only that the portion of the system which describes the “routine uses” of the system be published for comment, USDA invites comment on all portions of this notice. Comments must be received by the contact person listed below on or before December 9, 2002.

FOR FURTHER INFORMATION CONTACT: Director, Actuarial Division, Risk Management Agency, Federal Crop Insurance Corporation, 6501 Beacon Drive, Stop 0814, Kansas City, Missouri 64133-4676. Telephone: (816) 926-6487.

SUPPLEMENTARY INFORMATION: Pursuant to the Privacy Act, 5 U.S.C. 552a, USDA is creating a new system of records, FCIC-10, entitled “Policyholder” to be maintained by the Federal Crop Insurance Corporation (FCIC), a wholly-owned Government Corporation administered by the Risk Management Agency (RMA), an agency of USDA.

The policyholder system contains records of insured producers' and their policy information. Included in this information is: Name and tax identification numbers (including social security numbers) of the insured and all persons with a substantial beneficial interest in the insured, the crops insured, coverage levels, price elections, production and yield history; acreage report information including acres, farming practices, planting dates, premium and liability data; a legal description and identification of insured's land; and, if applicable, associated loss data on the insured's land as submitted to RMA by private insurance companies.

The purpose of the policyholder system is to administer the Federal crop insurance program; identify and support compliance and agency oversight efforts to mitigate fraud, waste and abuse; evaluate and analyze program performance as an element of determining actuarial soundness; support data reconciliation with the Farm Service Agency; assemble data for the purpose of establishing sound actuarial bases for insurance on agricultural commodities; research and develop new crop and risk management programs; analyze, evaluate or modify existing programs, internal controls and program performance; perform cost benefit analysis to support program rules, changes and modifications; provide historical records of program performance for research and development related to rating and coverage; and provide insured producers' policy information to private insurance companies as required by the Standard Reinsurance Agreement between the FCIC and the private insurance companies.

The policyholder system is maintained by the Actuarial Division, Research and Development, located in the RMA Kansas City office.

A report on a new system, as required by 5 U.S.C. 552a(r) and implemented by OMB Circular A-130, was sent to the Chairman, Committee on Governmental Affairs, United States Senate; the Chairman, Committee on Government Reform, U.S. House of Representatives; and the Administrator, Office of Information and Regulatory Affairs, Office of Management and Budget, on November 4, 2002.

Signed at Washington, DC, on November 4, 2002.
Ann M. Veneman,
Secretary of Agriculture.

USDA/FCIC-10

System name:

Policyholder.

Security classification:

None.

System location:

Kansas City Office, Federal Crop Insurance Corporation, Risk Management Agency, 501 Beacon Drive, Stop 0814, Kansas City, Missouri 64133-4676 and regional offices for the Federal Crop Insurance Corporation. Addresses of the regional offices may be obtained from the Deputy Administrator, Insurance Services, Risk Management Agency, United States Department of Agriculture, 1400 Independence Avenue, SW., Stop 0805, room 6709-S, Washington, DC 20250-0803.

Categories of individuals covered by the system:

The system consists of information on any individual or other legal entity that has, or has had in the past, insurance with the Federal Crop Insurance Corporation (FCIC) or a private insurance company reinsured by the FCIC.

Categories of records in the system:

The system consists of standardized records containing identifying information on individuals or other legal entities such as name, address, tax identification number (social security number or employer identification number) of the insured and any person with a substantial beneficial interest in the insured. The system also contains crops insured by crop years, the amount of premium paid by the insured, the amount of indemnity paid to the insured, the cause of loss, loss ratio of each crop insured under the policy, the number of years of no loss, the total number of years a premium discount was earned, the number of years an indemnity was paid, insured acreage, acreage location, crop yield history, and other individual information related to the operation of the crop insurance program. The system consists of a complete file containing information from all basic insurance documents: i.e., the application for insurance, the annual acreage report, inspection reports, claim forms, etc.

Authority for maintenance of the system:

7 U.S.C. 1501 et seq.

Routine uses of records maintained in the system, including categories of users and the purposes of such uses:

Records contained in this system may be used as follows:

(1) Referral to the appropriate agency, whether Federal, State, local or foreign including the Department of Justice, charged with the responsibility of investigating or prosecuting a violation of law, or of enforcing or implementing a statute, rule, regulation or order issued pursuant thereto, of any record within this system when information available indicates a violation or potential violation of law, whether civil, criminal, or regulatory in nature, and whether arising by general statute or particular program statute or by rule, regulation or order issued pursuant thereto.

(2) Disclosure to a court, magistrate or administrative tribunal or to opposing counsel in a proceeding before a court, magistrate, or administrative tribunal, of any record within the system that constitutes evidence in that proceeding, or which is sought in the course of discovery, to the extent that FCIC determines that the records sought are relevant to the proceeding.

(3) Disclosure to a congressional office in response to any inquiry from the congressional office made at the request of that individual.

(4) Disclosure to private insurance companies for any purpose relating to the sale, service, and administration of the Federal crop insurance program and the policies insured under the authority of the Federal Crop Insurance Act (Act).

(5) Disclosure to other Federal agencies and contractors, cooperators, and partners of FCIC for the purpose of conducting research, development, analyses, and evaluation into all aspects relating to new and existing crop insurance programs and other risk management tools.

(6) Disclosure to contractors or other Federal agencies to conduct research and analysis to identify patterns, trends, anomalies, instances and relationships of private insurance companies, agents, loss adjusters and policyholders that may be indicative of fraud, waste, and abuse.

(7) Disclosure to private insurance companies, contractors, and other applicable Federal agencies to determine whether information has been accurately provided to FCIC and the private insurance companies and to determine compliance with program requirements.

(8) Disclosure to private insurance companies, contractors, cooperators, partners of FCIC, and other Federal agencies for any purpose relating to the sale, service, administration, analysis and evaluation of the Federal crop insurance program.

Policies and Practices for Storing, Retrieving, Accessing, Retaining, and Disposing of Records in the System:

Storage:

Records are maintained electronically, on computer printouts, and in the file folders at the Kansas City Office.

Retrievability:

Records are indexed by State, county and policy number. Records may be indexed and retrieved by name of individual, tax identification number (social security number or employer identification number), or policy number.

Safeguards:

Records are accessible only to authorized personnel and are maintained in offices that are locked during non-duty hours. The electronic records are controlled by password protection and the computer network is protected by means of a firewall. File folders and other hard copy records are stored in locked file cabinets.

Retention and disposal:

Electronic records are maintained indefinitely. Hard copy records are maintained until expiration of the records retention period established by the National Archivist.

System manager(s) and address:

Director, Actuarial Division, Risk Management Agency, Federal Crop Insurance Corporation, 6501 Beacon Drive, Stop 0814, Kansas City, Missouri 64133-4676. Telephone: (816) 926-6487.

Notification procedure:

An individual may request information regarding this system of records or information as to whether the system contains records pertaining to such individual from the Kansas City Office. The request for information should contain the individual's name and address; tax identification number (social security number or employer identification number); State(s) and county(ies) where such individual farms; and individual crop insurance policy numbers, if known. Before information about any record is released, the System Manager requires the individual to provide proof of identity or requires the requester to furnish a notarized written authorization from the individual to permit release of information.

Record access procedures:

An individual may obtain information as to the procedures for gaining access to a record in the system, which pertains to such individual, by submitting a written request to the Privacy Act Officer, Risk Management Agency, Program Support Staff, Room 6620-SB, AG Stop 0821, 1400 Independence Avenue, SW., Washington, DC 20250-0821. The envelope and letters should be marked “Privacy Act Request.” A request for information should contain: name, address, ZIP code, tax identification number (social security number or employer identification number), name of the system of records, year of records in question, and any other pertinent information to help identify the file.

Contesting record procedures:

Procedures for contesting records are the same as the procedures for record access. Include the reason for contesting the record and the proposed amendment to the information with supporting documentation to show how the record is inaccurate.

Record source categories:

Information in this system comes primarily from the insurance company, or from other Federal agencies.

Exemptions claimed for the system:

None.

[FR Doc. 02-28475 Filed 11-7-02; 8:45 am]

BILLING CODE 3410-08-P